FEDERAL MINE SAFETY AND HEALTH REVIEW COMMISSION

Sunshine Act Meetings

April 10, 2007.

Time and Date: 10:30 a.m., Thursday, April 19, 2007.

Place: The Richard V. Backley Hearing Room, 9th Floor, 601 New Jersey Avenue, NW., Washington, DC.

Status: Open.

Matters to be Considered: The Commission will consider and act upon the following in open session: United Mine Workers of America on behalf of Local 1248, District 2 v. Maple Creek Mining, Inc., Docket No. PENN 2002-23-C. (Issues include whether the Administrative Law Judge erred in denying the operator's motion for summary decision on the ground that a withdrawal order issued to the operator pursuant to section 104(b) of the Mine Act could not be contested pursuant to section 105(a), and thus became final for purposes of the compensation provisions of section 111 when it was not contested under section 105(d) within 30 days of its issuance).

The Commission heard oral argument in this matter on March 22, 2007.

Any person attending this meeting who requires special accessibility features and/or auxiliary aids, such as sign language interpreters, must inform the Commission in advance of those needs. Subject to 29 CFR 2706.150(a)(3) and 2706.160(d).

Contact Person for More Info: Jean Ellen (202) 434-9950/(202) 708-9300 for TDD Relay/1-800-877-8339 for toll free.

Jean H. Ellen,
Chief Docket Clerk.

[FR Doc. 07-1939 Filed 4-16-07; 12:05 pm]

BILLING CODE 6735-01-M